DEPARTMENT OF THE INTERIOR

Fish and Wildlife Service

DEPARTMENT OF COMMERCE

National Oceanic and Atmospheric Administration

Endangered and Threatened Wildlife and Plants; Guidance on Streamlining Section 7 Consultation on Hazardous Fuels Treatment Projects

AGENCIES: Fish and Wildlife Service (USFWS), Interior; National Marine Fisheries Service (NMFS), National Oceanic and Atmospheric Administration, Commerce.

ACTION: Notice of availability.

SUMMARY: The Fish and Wildlife Service and National Marine Fisheries Service (Services) announce the availability of guidance on alternative approaches for streamlining section 7 consultation on hazardous fuels treatment projects. This guidance presents options for land management agencies and the Services for streamlining consultation conducted under section 7 of the Endangered Species Act of 1973, as amended (ESA). The guidance encourages early coordination and cooperation at the project planning stage, “batching” of similar projects, and use of design criteria or screens to streamline the consultation process while minimizing the potential for adverse effects to listed species and their habitats at both the landscape and site-specific levels. All procedures identified in this document are consistent with the requirements of section 7(a)(2) of the ESA and its implementing regulations (50 CFR part 402).

ADDRESSES: Electronic copies of this guidance may be obtained from the USFWS World Wide Web consultation home page at http://endangered.fws.gov/consultations/streamlining.pdf. Written copies of this guidance may be obtained from the Chief of the Division of Consultation, Habitat Conservation Planning, Recovery, and State Grants, United States Fish and Wildlife Service, 4401 North Fairfax Drive, Room 420, Arlington, Virginia 22203, or the Chief of the Endangered Species Division, Office of Protected Resources, National Marine Fisheries Service, 1315 East-West Highway, Silver Spring, Maryland 20910.

FOR FURTHER INFORMATION CONTACT: Rick Sayers, Chief, Branch of Consultation and Habitat Conservation Planning (Telephone 703/358-2106, Facsimile 703/358-1735).

SUPPLEMENTARY INFORMATION:

Background

In response to recent damaging wildland fires, the Departments of the Interior and Agriculture have developed the National Fire Plan, which, among other things, calls for a substantial increase in the number of forested acres treated annually to reduce hazardous fuels. With this effort comes an increased workload related to compliance with various environmental laws and regulations such as the Endangered Species Act of 1973, as amended (ESA).

Under section 7(a)(2) of the ESA, each Federal agency must, in consultation with the Services, ensure that any action it funds, authorizes, or carries out will not jeopardize the continued existence of listed species or adversely modify designated critical habitat. Thus land management agencies must complete section 7 consultation in accordance with procedures identified at 50 CFR part 402 for each fuels treatment project they propose prior to implementation. It is essential that these consultations be carried out as quickly and efficiently as possible to promote the timely implementation of preventative actions that will help to ensure public safety.

This is one of the goals of the President's recently announced Healthy Forest Initiative, which will implement core components of the National Fire Plan. As part of this initiative the Services have developed the subject guidance document to assist in streamlining the section 7 consultation process for hazardous fuels treatment projects. This guidance is founded on the principle that by engaging in early planning and coordination the Services and action agencies can identify and address potential conflicts between fuels treatment projects and listed species conservation during the project design phase while there is the maximum flexibility to modify projects. Incorporating listed species' needs into the project design process, typically in the form of the development of design criteria, is one of the most effective methods of streamlining the section 7 consultation process.

The guidance provides options for both fire management agencies and the Services and is designed to contain sufficient flexibility to meet the individual needs of varied circumstances across the landscape. While the guidance presents no new or additional requirements, it takes several streamlining techniques that have been successfully used in different areas of the country and under different circumstances, such as the development of design criteria or “screens,” the batching of similar projects, and the use of programmatic consultations, and offers ways they can be used individually or in combination to effectively streamline the section 7 consultation process. All procedures identified in the guidance document are consistent with the requirements of section 7(a)(2) of the Act and its implementing regulations (50 CFR part 402).

Finally, despite the best of intentions, at times the section 7 consultation process has been unduly slowed by disputes among consulting agencies. In an effort to reduce the potential for such delays, the guidance provides a dispute resolution process. This process involves elevation procedures designed to provide timely resolution to such disputes.

The Services are publishing this notice in order to advise other agencies and the public of the existence of the subject guidance and encourage its use.

Authority: The authority for this action is the Endangered Species Act, as amended (16 U.S.C. 1531 et seq.).

Dated: October 8, 2002.
William T. Hogarth,
Assistant Administrator for Fisheries, National Marine Fisheries Service.

Dated: October 11, 2002.
Steve Williams,
Director, Fish and Wildlife Service.

[FR Doc. 03-577 Filed 1-10-03; 8:45 am]

BILLING CODE 3510-22 and 4310-55-P